DEPARTMENT OF TRANSPORTATION

Research and Special Program Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated form the new applications for exemptions to facilitate processing.

DATES: Comments must be received on or before July 10, 2003.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street, SW., Washington, DC or at http://dms.dot.gov.

This notice of receipt of applications for modification of exemptions is published in accordance with part 107 of the Federal hazardous materials transportation law (49 U.S.C. 5117(b); 49 CFR 1.53(b)).

Issued in Washington, DC, on June 20, 2003.
R. Ryan Posten,
Exemptions Program Officer, Office of Hazardous Materials, Exemptions and Approvals.

Application No. | Docket No. | Applicant | Modification of exemption
7465-M |  | State of Alaska (Dept. of Transp. & Public Facil.), Juneau, AK (See footnote 1) | 7465
10631-M |  | Hqa. MTMC Operations Center, Fort Eustis, VA (See footnote 2) | 10631
10915-M |  | Luxfer Gas Cylinders (Composite Cylinder Division), Riverside, CA (See footnote 3) | 10915
11073-M |  | E.I. DuPont de Nemours and Company, Inc., Wilmington, DE (See footnote 4) | 11073
11537-M |  | Burlington Chemical Co., Inc., Burlington, NC (See footnote 5) | 11537
12155-M | RSPA-98-4558 | S&C Electric Company, Chicago, IL (See footnote 6) | 12155
12442-M | RSPA-00-7208 | Cryogenic Vessel Alternatives, Mont Belvieu, TX (See footnote 7) | 12442
12629-M | RSPA-01-8853 | Western Sales & Testing of Amarillo, Inc., Amarillo, TX (See footnote 8) | 12629
12779-M | RSPA-01-10554 | Matheson Tri-Gas, Parsippany, NJ (See footnote 9) | 12779
12855-M | RSPA-01-10914 | KRATON Polymers U.S. LLC (Belpre Plant), Belpre, OH (See footnote 10) | 12855
13057-M | RSPA-02-12819 | Minerals Technologies, Inc., Easton, PA (See footnote 11) | 13057
13088-M | RSPA-02-13042 | Electron Transfer Technologies, Inc., Edison, NJ (See footnote 12) | 13088
13207-M | RSPA-03-15068 | BEI Hawaii, Honolulu, HI (See footnote 13) | 13207
⁽¹⁾ To modify the exemption to authorize the construction and use of an additional stowage vessel for the transportation of vehicles with attached cylinders of liquefied petroleum gas.
⁽²⁾ To modify the exemption to authorize a change to the driving experience requirement when transporting certain Class 8 and Division 6.1 materials in DOT Specification MC-338 cargo tanks and to update various paragraphs to coincide with the Hazardous Materials Regulations as currently written.
⁽³⁾ To modify the exemption to authorize eliminating the virgin burst mode sidewall initiation requirement and the directional stress load distribution restrictions for the non-DOT specification fully wrapped carbon-fiber reinforced aluminum lined cylinders.
⁽⁴⁾ To modify the exemption to authorize the transportation of an additional Class 8 material in DOT Class 112S tank cars.
⁽⁵⁾ To modify the exemption to authorize the transportation of additional Class 8 materials in UN31H2 or UN31HA1 Intermediate Bulk Containers.
⁽⁶⁾ To modify the exemption to authorize new design change devices and higher service pressure for the non-DOT specification pressure vessel.
⁽⁷⁾ To modify the exemption to authorize the use of alternative cryogenic vessel models of the same diameter, length and volume.
⁽⁸⁾ To modify the exemption to upgrade the Senior Review Technologist certification and revise the marking requirements for retester symbols and certification dates.
⁽⁹⁾ To modify the exemption to authorize the use of additional units with minor design changes for the transportation of a Division 2.2 material.
⁽¹⁰⁾ To modify the exemption to authorize the use of similar non-DOT specification pressure vessels (stainless steel heat exchangers) containing Class 3 materials.
⁽¹¹⁾ To modify the exemption to authorize the transportation of additional Division 4.1, 4.3 and 6.1 materials contained in the core of a continuous roll of steel tubing.
⁽¹²⁾ To modify the exemption to authorize the transportation of certain Division 2.3 materials via cargo aircraft which are not presently authorized in the Hazardous Materials Table.
⁽¹³⁾ To reissue the exemption originally issued on an emergency basis for the transportation of a Class 8 material in DOT Specification IM 101 portable tanks that do not conform to the filling density requirements.

[FR Doc. 03-16091 Filed 6-24-03; 8:45 am]

BILLING CODE 4910-60-M